DEPARTMENT OF HEALTH AND HUMAN SERVICES

National Institutes of Health

Center for Scientific Review; Amended Notice of Meeting

Notice is hereby given of a change in the meeting of the Center for Scientific Review Special Emphasis Panel, October 29, 2010, 2 p.m. to October 29, 2010, 4 p.m., National Institutes of Health, 6701 Rockledge Drive, Bethesda, MD 20892 which was published in the Federal Register on September 23, 2010, 75 FR 57965-57967.

The meeting times have been changed to 8:30 a.m. to 10:30 a.m. on October 29, 2010. The meeting date and location remain the same. The meeting is closed to the public.

Dated: September 29, 2010.
Jennifer S. Spaeth,
Director, Office of Federal Advisory Committee Policy.

[FR Doc. 2010-25171 Filed 10-5-10; 8:45 am]

BILLING CODE 4140-01-P